DEPARTMENT OF TRANSPORTATION

Research and Special Programs Administration

Pipeline Safety: Guidance on When the Baseline Integrity Assessment Begins

AGENCY: Office of Pipeline Safety (OPS), Research and Special Programs Administration (RSPA), DOT.

ACTION: Notice; issuance of advisory bulletin.

SUMMARY: This document provides guidance to operators of gas transmission pipelines on the requirement in 49 U.S.C. 60109 that operators begin the baseline integrity assessment of pipeline segments located in high consequence areas no later than June 17, 2004. Trade associations representing natural gas pipeline companies affected by this requirement, have asked for guidance on what actions an operator must take to begin a baseline assessment. This document provides guidance to gas transmission operators on what initial steps RSPA/OPS expects each operator to take to begin the baseline integrity assessment to meet the intent of the statute.

General Information

You may contact the Dockets Facility by phone at (202) 366-9329, for copies of this document or other material in the docket. All materials in this docket may be accessed electronically at http://dms.dot.gov/search. Once you access this address, type in the last four digits of the docket number shown at the beginning of this notice (in this case 7666), and click on search. You will then be connected to all relevant information.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: Mike Israni by phone at (202) 366-4571, by fax at (202) 366-4566, or by e-mail at mike.israni@rspa.dot.gov, regarding the subject matter of this guidance. General information about the RSPA/OPS programs may be obtained by accessing RSPA's Home page at http://RSPA.dot.gov.

SUPPLEMENTARY INFORMATION:

Background

The Federal Pipeline Safety Statute (49 U.S.C. 60109(c)) requires that RSPA/OPS issue regulations, by December 17, 2003, establishing requirements for integrity management programs for gas transmission pipelines in high consequence areas. The statute also imposes requirements directly on gas pipeline operators. The statute requires each gas pipeline operator to adopt an integrity management program for pipeline segments located in high consequence areas by December 17, 2004, and to begin the baseline integrity assessment of those segments no later than June 17, 2004. The statute requires that an operator complete the baseline assessment on all the operator's gas transmission pipeline segments in high consequence areas by December 17, 2012, with at least 50 percent of those segments being assessed no later than December 17, 2006. An operator must also reassess each of the segments every 7 years.

Trade associations that represent gas pipeline operators have requested guidance on what actions are necessary for an operator to have begun the required baseline assessment process by the statutory deadline. This advisory bulletin gives guidance on the actions RSPA/OPS expects an operator to take by June 17, 2004 for the operator to be considered as having begun the baseline assessment.

On August 6, 2002, RSPA/OPS published a final rule defining high consequence areas, i.e. those areas for which additional protections are required (67 FR 50824). RSPA/OPS initiated the rulemaking on integrity management program requirements with a notice of proposed rulemaking (NPRM), published January 28, 2003 (68 FR 4278), that proposed substantive requirements to establish integrity management programs and modifications to the high consequence area definition to better identify population potentially impacted by a pipeline failure. A final rule has not yet been issued. RSPA/OPS published an advisory bulletin on July 17, 2003 (68 FR 42456) providing guidance on steps RSPA/OPS expects gas transmission operators to take to determine “identified sites” along the pipeline, one of the components of the high consequence area definition.

RSPA/OPS expects that by June 17, 2004, an operator will have identified many high consequence areas along its transmission pipelines though operation and maintenance activities on the pipeline right-of-way, including patrolling, that the operator conducts on a routine basis, and through the guidance RSPA/OPS provided on how to determine the identified sites component with the help of emergency response officials. An operator will also have integrated all available data and information the operator has available on those high consequence areas to prioritize segments that are high risk, and to have begun selecting the assessment method best suited for each segment and scheduling the assessment of the high risk segments.

Advisory Bulletin (ADB-03-07)

To: Operators of gas transmission pipelines.

Subject: The requirement in 49 U.S.C. 60109 (c) that each operator begin the baseline integrity assessment of segments in high consequence areas no later than June 17, 2004.

Purpose: To provide guidance to operators on what steps RSPA/OPS considers acceptable to begin the baseline integrity assessment process to meet the intent of the statute.

Advisory: RSPA/OPS will accept the following steps as having begun the baseline assessment process required by 49 U.S.C. 60109 (c).

Prior to June 17, 2004, each operator must have begun to—

• Identify segments that are located in high consequence areas;

• Integrate available data on those identified segments;

• Prioritize the highest risk segments from available data on those identified segments; and

• Select the assessment method best suited to assess (pressure-test, internal inspection devices, direct assessment, or alternative method) each high risk segment.

By June 17, 2004, each operator must have begun its preparation to conduct a baseline assessment on at least one high risk segment that the operator has already identified. Preparing to conduct a baseline assessment means that—

• An operator has scheduled for assessment the segments identified prior to June 17, 2004; and

• An operator has started to contract or has entered into a contract with a tool vendor to assess the identified segments; or

• An operator has started to assess the first scheduled segment.

RSPA/OPS also considers that any of the following actions as meeting the intent of the statute that an operator have begun the baseline integrity assessment process by June 17, 2004. The following actions are not the only actions that RSPA/OPS will accept.

• An operator has installed launchers or receivers for internal inspection devices;

• An operator has set up a segment for a pressure test; or

• An operator has completed the pre-assessment step for Direct Assessment.

Issued in Washington, DC, on November 10, 2003.
Stacey L. Gerard,
Associate Administrator for Pipeline Safety.

[FR Doc. 03-28623 Filed 11-14-03; 8:45 am]

BILLING CODE 4910-60-P